Title 3—

The President

Proclamation 9785 of September 14, 2018

National Gang Violence Prevention Week, 2018

By the President of the United States of America

A Proclamation

Too many of our Nation's communities are afflicted by terrible and senseless acts of violence committed by members of gangs and cartels. Horrendous, criminal acts have become increasingly common in our cities and towns where the notorious and savage MS-13 and other criminal gangs operate. During National Gang Violence Prevention Week, my Administration commits to continue its steadfast efforts to identify and eradicate the gangs that spread bloodshed, murder our youth, and lay siege to neighborhoods across our country.

While my Administration has successfully indicted and convicted countless gang members, gang violence still destroys families and threatens our liberty. When street gangs smuggle drugs into our communities, violence, addiction, overdoses, and other criminal activities follow. Extortion, sex trafficking, murder, robbery, and witness intimidation are only some of the evils that trail in the wake of gang activity.

Our brave law enforcement officers are fearlessly confronting gang violence. They routinely and courageously fight criminal organizations, even in the face of increasingly brazen, hateful attacks. The Department of Justice is partnering with State, local, and tribal law enforcement—including our Nation's 3,081 sheriffs—to bolster efforts to combat criminal gangs through comprehensive violent crime reduction initiatives, such as Project Safe Neighborhoods. Additionally, it is increasing the number of Federal prosecutors focused on gang violence and is providing enhanced training on gang investigations to State and local law enforcement agencies. Because of these efforts, we have already seen tremendous success in prosecuting gang-based violent crime and reducing the influence of criminal gangs.

I have also instructed my Administration to aggressively address transnational criminal organizations, especially MS-13. Organized and led from Central America, MS-13 has entrenched its claws in communities from the East Coast to the West Coast. Its growing influence poses a serious risk to our country's youth and community safety. Through increased interagency efforts and the creation of collaborative task forces that include both Federal agencies and State and local law enforcement, we have made great strides in protecting our Nation's most vulnerable communities from MS-13's violence and greatly diminished its ability to recruit new members. Earlier this year, Operation Matador demonstrated the success of these efforts, resulting in the indictment of dozens of MS-13 gang members for Federal racketeering offenses.

While this progress is promising, the scourge of MS-13 and other transnational criminal organizations will not abate until our Nation's borders are fully secure and those who seek to harm us are no longer able to exploit loopholes in our broken immigration laws. In the past year, United States Immigration and Customs Enforcement (ICE) has arrested more than 4,800 criminal gang members, including nearly 796 arrests related to MS-13. We are grateful for the often dangerous work ICE conducts each day to enforce the law, secure our border, and keep us safe. The Congress must take action to protect public safety and national security by providing the necessary resources to secure our borders and close the dangerous loopholes in our laws that leave our borders open to dangerous exploitation.

This week, we rededicate ourselves to dismantling, and ultimately eradicating, criminal gang organizations, which threaten our way of life. Let us strengthen our resolve to protect our communities from gang violence and to ensure they are places where all Americans can live, work, and raise their families. We also reaffirm our duty to support members of law enforcement, who, every day, place their lives on the line to protect and save anyone in need—be it family members, friends, neighbors, or strangers.

NOW, THEREFORE, I, DONALD J. TRUMP, President of the United States of America, by virtue of the authority vested in me by the Constitution and the laws of the United States, do hereby proclaim the week of September 16 through September 22, 2018, as “National Gang Violence Prevention Week.” I call upon the people of the United States to observe this week with appropriate ceremonies and activities.

IN WITNESS WHEREOF, I have hereunto set my hand this fourteenth day of September, in the year of our Lord two thousand eighteen, and of the Independence of the United States of America the two hundred and forty-third.

[FR Doc. 2018-20563

Filed 9-18-18; 11:15 am]

Billing code 3295-F8-P